DEPARTMENT OF ENERGY

Federal Energy Regulatory Commission

Combined Notice of Filings #1

Take notice that the Commission received the following electric corporate filings:

Docket Numbers: EC19-34-000.

Applicants: Peony Solar LLC.

Description: Application for Authorization Under Section 203 of the Federal Power Act, et al. of Peony Solar LLC.

Filed Date: 12/13/18.

Accession Number: 20181213-5176.

Comments Due: 5 p.m. ET 1/3/19.

Take notice that the Commission received the following exempt wholesale generator filings:

Docket Numbers: EG19-33-000.

Applicants: Valentine Solar, LLC.

Description: Notice of Self-Certification of Exempt Wholesale Generator Status of Valentine Solar, LLC.

Filed Date: 12/13/18.

Accession Number: 20181213-5102.

Comments Due: 5 p.m. ET 1/3/19.

Take notice that the Commission received the following electric rate filings:

Docket Numbers: ER10-1276-009; ER10-1287-008; ER10-1292-008; ER10-1303-008; ER10-1319-010; ER10-1353-010; ER18-1183-001; ER18-1184-001.

Applicants: Consumers Energy Company, CMS Energy Resource Management Company, Grayling Generation Station Limited Partnership, Genesee Power Station Limited Partnership, CMS Generation Michigan Power, LLC, Dearborn Industrial Generation, L.L.C., Delta Solar Power I, LLC, Delta Solar Power II, LLC.

Description: Supplement to September 11, 2108 Notice of Non-Material Change-In-Status of Consumer Energy Company, et al.

Filed Date: 12/13/18.

Accession Number: 20181213-5136.

Comments Due: 5 p.m. ET 1/3/19.

Docket Numbers: ER10-2877-002.

Applicants: Cobb Electric Membership Corporation.

Description: Supplement to December 29, 2017 Triennial Market Power Update for the Central Region of Cobb Electric Membership Corporation.

Filed Date: 12/13/18.

Accession Number: 20181213-5180.

Comments Due: 5 p.m. ET 1/3/19.

Docket Numbers: ER12-348-006; ER15-1378-002.

Applicants: Mercuria Energy America, Inc., Mercuria Commodities Canada Corporation.

Description: Supplement to December 20, 2017 Updated Triennial Market Analysis for the Southeast Region of the Mercuria Sellers.

Filed Date: 12/13/18.

Accession Number: 20181213-5179.

Comments Due: 5 p.m. ET 1/3/19.

Docket Numbers: ER12-543-004.

Applicants: CleanChoice Energy, Inc.

Description: Notice of change in status of CleanChoice Energy, Inc.

Filed Date: 12/12/18.

Accession Number: 20181212-5361.

Comments Due: 5 p.m. ET 1/2/19.

Docket Numbers: ER17-2415-002.

Applicants: Pilesgrove Solar, LLC.

Description: Report Filing: Refund Report of Pilesgrove to be effective N/A.

Filed Date: 12/13/18.

Accession Number: 20181213-5159.

Comments Due: 5 p.m. ET 1/3/19.

Docket Numbers: ER17-2515-003.

Applicants: Chambers Cogeneration, Limited Partnership.

Description: Report Filing: Refund Report to be effective N/A.

Filed Date: 12/12/18.

Accession Number: 20181212-5265.

Comments Due: 5 p.m. ET 1/2/19.

Docket Numbers: ER18-89-002.

Applicants: Frenchtown I Solar, LLC.

Description: Report Filing: Refund Report of Frenchtown I and II to be effective N/A.

Filed Date: 12/13/18.

Accession Number: 20181213-5142.

Comments Due: 5 p.m. ET 1/3/19.

Docket Numbers: ER18-90-002.

Applicants: Frenchtown II Solar, LLC.

Description: Report Filing: Refund Report of Frenchtown I and II to be effective N/A.

Filed Date: 12/13/18.

Accession Number: 20181213-5148.

Comments Due: 5 p.m. ET 1/3/19.

Docket Numbers: ER18-2401-001.

Applicants: PJM Interconnection, L.L.C.

Description: Compliance filing: Response to Deficiency Notice re: Order No. 844 Compliance Filing to be effective 1/1/2019.

Filed Date: 12/13/18.

Accession Number: 20181213-5107.

Comments Due: 5 p.m. ET 1/3/19.

Docket Numbers: ER19-130-001.

Applicants: Midcontinent Independent System Operator, Inc., ALLETE, Inc.

Description: Tariff Amendment: 2018-12-13_SA 3182 MP-GRE T-L IA Substitute (Straight River) to be effective 10/18/2018.

Filed Date: 12/13/18.

Accession Number: 20181213-5114.

Comments Due: 5 p.m. ET 1/3/19.

Docket Numbers: ER19-302-001.

Applicants: NTE Southeast Electric Company, LLC.

Description: Supplement to December 12, 2018 NTE Southeast Electric Company, LLC tariff filing.

Filed Date: 12/12/18.

Accession Number: 20181212-5353.

Comments Due: 5 p.m. ET 1/2/19.

Docket Numbers: ER19-537-001; ER14-608 002; ER16-1644 002; ER17-1214 001.

Applicants: MRP San Joaquin Energy, LLC, High Desert Power Project, LLC,MRP Generation Holdings, LLC, Coso Geothermal Power Holdings, LLC.

Description: Notice of Change in Status of MRP San Joaquin Energy, LLC, et al.

Filed Date: 12/13/18.

Accession Number: 20181213-5222.

Comments Due: 5 p.m. ET 1/3/19.

Docket Numbers: ER19-545-000.

Applicants: Buena Vista Energy, LLC.

Description: § 205(d) Rate Filing: Request for Cat. 1 Seller Status in the SW Region to be effective 12/13/2018.

Filed Date: 12/12/18.

Accession Number: 20181212-5249.

Comments Due: 5 p.m. ET 1/2/19.

Docket Numbers: ER19-546-000.

Applicants: Kumeyaay Wind LLC.

Description: § 205(d) Rate Filing: Request for Cat. 1 Seller Status in the SW Region to be effective 12/13/2018.

Filed Date: 12/12/18..

Accession Number: 20181212-5252

Comments Due: 5 p.m. ET 1/2/19.

Docket Numbers: ER19-547-000.

Applicants: PJM Interconnection, L.L.C.

Description: § 205(d) Rate Filing: Amendment to ISA, SA No. 4311 and CSA, SA No. 4218; Queue No. AA1-065 to be effective 11/9/2015.

Filed Date: 12/12/18.

Accession Number: 20181212-5254.

Comments Due: 5 p.m. ET 1/2/19.

Docket Numbers: ER19-548-000.

Applicants: PJM Interconnection, L.L.C.

Description: § 205(d) Rate Filing: Amended ISA, SA No. 5238; Queue No. AD1-084 to be effective 11/12/2018.

Filed Date: 12/12/18.

Accession Number: 20181212-5314.

Comments Due: 5 p.m. ET 1/2/19.

Docket Numbers: ER19-549-000.

Applicants: American Transmission Systems, Incorporated, PJM Interconnection, L.L.C.

Description: § 205(d) Rate Filing: ATSI submits OIA SA No. 2852 & IA SA No. 5196 to be effective 12/14/2018.

Filed Date: 12/13/18.

Accession Number: 20181213-5000.

Comments Due: 5 p.m. ET 1/3/19.

Docket Numbers: ER19-550-000.

Applicants: Tucson Electric Power Company.

Description: Compliance filing: Compliance Filing Related to Tax Cuts and Jobs Act to be effective 3/21/2018.

Filed Date: 12/13/18.

Accession Number: 20181213-5083.

Comments Due: 5 p.m. ET 1/3/19.

Docket Numbers: ER19-551-000.

Applicants: Northern States Power Company, a Minnesota corporation.

Description: § 205(d) Rate Filing: NSP-CHAK-L-Bluff Ck-LV Bush Repl Ltr Agmt NOC-556 to be effective 12/14/2018.

Filed Date: 12/13/18.

Accession Number: 20181213-5092.

Comments Due: 5 p.m. ET 1/3/19.

Docket Numbers: ER19-552-000.

Applicants: PJM Interconnection, L.L.C.

Description: § 205(d) Rate Filing: Original ISA, Service Agreement No. 5241, Non-queue NQ157 to be effective 11/13/2018.

Filed Date: 12/13/18.

Accession Number: 20181213-5124.

Comments Due: 5 p.m. ET 1/3/19.

Docket Numbers: ER19-553-000.

Applicants: PJM Interconnection, L.L.C.

Description: § 205(d) Rate Filing: Original ISA, SA No. 5242 Non-Queue NQ158 to be effective 11/13/2018.

Filed Date: 12/13/18.

Accession Number: 20181213-5138.

Comments Due: 5 p.m. ET 1/3/19.

Docket Numbers: ER19-554-000.

Applicants: GenOn Energy Management, LLC, NRG California South LP.

Description: Application to Recover Fuel Costs, et al. of GenOn Energy Management, LLC, et al.

Filed Date: 12/13/18.

Accession Number: 20181213-5184.

Comments Due: 5 p.m. ET 1/3/19.

Take notice that the Commission received the following qualifying facility filings:

Docket Numbers: QF19-575-000.

Applicants: UE-00211NJ.

Description: Form 556 of UE-00211NJ.

Filed Date: 12/13/18.

Accession Number: 20181213-5175.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2018.
Nathaniel J. Davis, Sr.,
Deputy Secretary.

[FR Doc. 2018-27727 Filed 12-20-18; 8:45 am]

BILLING CODE 6717-01-P